DEPARTMENT OF TRANSPORTATION

Pipeline and Hazardous Materials Safety Administration

Hazardous Materials: Notice of Actions on Special Permits

AGENCY: Pipeline and Hazardous Materials Safety Administration (PHMSA), DOT.

ACTION: Notice of actions on special permit applications.

SUMMARY: In accordance with the procedures governing the application for, and the processing of, special permits from the Department of Transportation's Hazardous Material Regulations, notice is hereby given that the Office of Hazardous Materials Safety has received the application described herein.

DATES: Comments must be received on or before October 5, 2020.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington, DC.

This notice of receipt of applications for special permit is published in accordance with part 107 of the Federal hazardous materials transportation law (49 U.S.C. 5117(b); 49 CFR 1.53(b)).

Issued in Washington, DC, on September 1, 2020.
Donald P. Burger,
Chief, General Approvals and Permits Branch.

Application No. | Applicant | Regulation(s) affected | Nature of the special permits thereof
SPECIAL PERMITS DATA—Granted
9998-M | Accumulators, Inc | 173.302(a) | To add a new line of piston-type hydro-pneumatic accumulators (to the currently permitted bladder-type accumulators).
11489-M | Joyson Safety Systems | 172.320, 173.56(b) | To modify the special permit to clarify origination and destination for testing and to remove the no other hazardous materials may be transported within the same cargo carrying body on a transport vehicle or freight container restriction.
14301-M | Gascon A Division Of Southey Holdings (Pty) Ltd | 178.274(b)(1), 178.276(a)(2), 178.276(b)(1) | To modify the special permit to authorize a new calculation method for calculating allowable external pressure.
14543-M | LBM Techno Gas GmbH | 173.304(a)(2), 178.65(f), 178.65(g) | To modify the special permit to authorize additional Division 2.2 gases and to authorize high pressure testing at 100% at a modified pressure of 375 bar.
15483-M | National Aeronautics And Space Administration | 173.302a | To modify the special permit to authorize a different 2.2 gas to be incorporated into the permit.
15863-M | Baker Hughes Oilfield Operations LLC | 173.301(f), 173.302a | To modify the special permit to authorize an additional mode of transportation (passenger aircraft).
16413-M | Amazon.com, Inc | 172.301(c), 173.185(c)(1)(iii), 173.185(c)(3)(i), 173.159a(c)(1), 173.159a(c)(2), 173.185(c)(1)(iv) | To modify the special permit to authorize an additional hazmat and packaging for it and to authorize the use of QR codes to link to the latest version of the authorizing permit.
21015-N | Amazon.com, Inc | 172.203(a), 172.315(a)(2) | To authorize the transportation in commerce of materials shipped under limited quantity exceptions with a reduced size limited quantity marking.
21055-N | AVL Powertrain Engineering, Inc | 172.101(j), 173.185(a)(1), 173.185(b)(3) | To authorize the transportation in commerce of a single prototype lithium ion battery. Only one shipment is authorized under the terms of this special permit.
21061-N | KLA Corporation | 173.212, 173.213 | To authorize the transportation in commerce of certain flammable solids in non-DOT specification packaging.
21075-N | Aerojet Rocketdyne, Inc | 172.200(a), 172.201(a) | To authorize the transportation in commerce of explosives between manufacturing facility and storage bunkers along approximately 5 miles of unpopulated low traffic highway without shipping papers.
21081-N | Romeo Systems, Inc | 172.102 | To authorize the transportation in commerce of lithium ion batteries exceeding 35 kg by cargo only aircraft.
21092-N | Lynden Air Cargo, LLC | 172.101(j), 172.301(c), 173.27(b)(2), 173.27(b)(3), 175.30(a)(1) | To authorize the transportation in commerce of explosives forbidden aboard cargo-only aircraft.
SPECIAL PERMITS DATA—Denied
20336-M | Geotek Coring Inc | 173.3(d)(3) | To modify the special permit to authorize the use of a refrigerated ISO container of double the current length and the use of triple the number of salvage containers per ISO container.
20916-N | Messer LLC | 180.407(d)(2)(vi) | To authorize the replacement of cargo tank data plates without requiring the original manufacturers ASME U stamp.
20998-N | Daicel Safety Systems Americas, Inc | 173.301(a)(1), 173.302(a), 178.65(c)(3) | To authorize the manufacture, mark, sale and use of non-DOT specification cylinders (pressure vessels) for use as components of automobile vehicle safety systems. These pressure vessels may be charged with non-toxic, non-liquefied gases or mixtures thereof and are authorized for transportation in commerce subject to requirements and limitations specified herein.
21043-N | Community Surgical Supply Of Toms River Inc | 180.207 | To authorize the transportation in commerce of certain hazardous materials in DOT specification 3AL cylinders that are requalified in 10-year retest interval rather than 5-year intervals using ultrasonic examination.
21060-N | Central Specialties, Inc | 173.315 | To authorize the transportation in commerce of storage tanks (cargo tanks?) for the purpose of transporting liquefied petroleum gas.
SPECIAL PERMITS DATA—Withdrawn
21027-N | FIBA Technologies, Inc | 180.207(d)(1) | To authorize the transportation in commerce of seamless steel UN pressure receptacles that have been requalified in accordance with ISO 18119:2018.

[FR Doc. 2020-19646 Filed 9-3-20; 8:45 am]

BILLING CODE 4910-60-P